DEPARTMENT OF ENERGY

Notice of Availability of the Injury Assessment Plan for the Hanford Site, Richland, WA

AGENCY: Department of Energy.

ACTION: Notice and Request for Comments.

SUMMARY: The U.S. Department of Energy (DOE), on behalf of the Hanford Natural Resource Trustee Council, announces the release of the Injury Assessment Plan for the Hanford Site. The Injury Assessment Plan describes the activities that constitute the currently proposed approach of the natural resource trustees (DOE, Department of the Interior (DOI), U.S. Fish and Wildlife Service, Department of Commerce National Oceanic and Atmospheric Administration, State of Washington, State of Oregon, Confederated Tribes of the Umatilla Indian Reservation, Confederated Tribes and Bands of the Yakama Nation, and Nez Perce Tribe) for conducting the assessment of natural resources exposed to hazardous substances.

DATES: Submit written comments on the Injury Assessment Plan on or before January 4, 2013.

ADDRESSES: Send written comments to Larry Goldstein/Hanford Natural Resource Trustee Council Chair/Washington State Department of Ecology, Nuclear Waste Program, P.O. Box 47600, Olympia, Washington 98504-7600; via email to Larry.Goldstein@ecy.wa.gov. You may download the Injury Assessment Plan at www.hanfordnrda.org.

SUPPLEMENTARY INFORMATION: The Injury Assessment Plan (Plan) is being released to the public in accordance with the Natural Resource Damage Assessment Regulations found at 43 CFR Part 11. In accordance with those regulations, since one or more natural resources located on the Hanford site have been contaminated with hazardous substances, including metals, organics and radionuclides, the Trustees will be conducting a Type B assessment. The Plan is one of the first steps in the damage assessment process, the goal of which is to restore, replace, or acquire the equivalent of natural resources injured by the release of hazardous substances.

Copies of the Injury Assessment Plan are available for public review at the following locations:

Administrative Record and Public Information Repository,

2440 Stevens Center Place,

Room 1101,

Richland, Washington 99352;

Portland State University,

Branford P. Millar Library,

1875 SW Park Avenue,

Portland, Oregon 97201;

University of Washington,

Suzallo Library,

Government Publications Department,

P.O. Box 352900,

Seattle, Washington 98195;

Washington State University,

Tri-Cities Consolidated Information Center,

Room 101-L,

2770 University Drive,

Richland, Washington 99354;

Gonzaga University Foley Center Library,

502 East Boone Avenue,

Spokane, Washington 99258.

FOR FURTHER INFORMATION CONTACT: To request further information about the Injury Assessment Plan for the Hanford Site, contact Larry Goldstein at 360-407-6573, Larry.Goldstein@ecy.wa.gov.

Issued in Washington, DC on November 30, 2012.
Mark A. Gilbertson,
Deputy Assistant Secretary for Site Restoration.

[FR Doc. 2012-29420 Filed 12-4-12; 8:45 am]

BILLING CODE 6450-01-P